DEPARTMENT OF THE INTERIOR

Fish and Wildlife Service

Post-Delisting Monitoring Plan for the Douglas County Distinct Population Segment of the Columbian White-tailed Deer (Odocoileus virginianus leucurus)

AGENCY: Fish and Wildlife Service, Interior.

ACTION: Notice of document availability.

SUMMARY: We, the U.S. Fish and Wildlife Service (Service), announce the availability of the Post-Delisting Monitoring Plan for the Douglas County Distinct Population Segment of the Columbian White-tailed Deer (Odocoileus virginianus leucurus). The monitoring plan describes the methods that are being used to monitor the status of the Douglas County distinct population segment of the Columbian white-tailed deer and its habitat for a 5-year period, from 2003 (at the time of delisting) to 2008. The plan also provides a strategy for identifying and responding to unexpected population declines and habitat alteration, as well as disease outbreaks.

ADDRESSES: Copies of the post-delisting monitoring plan are available by request from the State Supervisor, U.S. Fish and Wildlife Service, Oregon Fish and Wildlife Office, 2600 SE. 98th Avenue, Suite 100, Portland, Oregon 97266 (telephone: 503-231-6179; fax: 503-231-6195). It is also available on the World Wide Web at: http://www.fws.gov/oregonfwo/Species/ESA-Actions/CWTDPage.asp.

FOR FURTHER INFORMATION CONTACT: Cat Brown, Fish and Wildlife Biologist, at the above address.

SUPPLEMENTARY INFORMATION:

Background

The Columbian white-tailed deer is the westernmost representative of 30 subspecies of white-tailed deer in North and Central America (Halls 1978, p. 44; Baker 1984, p. 11). The subspecies was formerly distributed throughout the bottomlands and prairie woodlands of the lower Columbia, Willamette, and Umpqua River basins in Oregon and southern Washington (Bailey 1936, p. 90; Verts and Carraway 1998, p. 479). It currently exists in two distinct population segments (DPS), one in Douglas County, Oregon (Douglas County DPS), and the other along the lower Columbia River in Oregon and Washington (Columbia River DPS).

The Douglas County DPS was removed from the Federal List of Endangered and Threatened Wildlife and Plants on July 24, 2003 (68 FR 43647). The DPS was determined to be recovered and no longer in need of the protections of the Endangered Species Act (ESA) (16 U.S.C. 1531 et seq.) due to robust population growth and amelioration of threats to its survival (see July 24, 2003, 68 FR 43647). The Columbia River DPS remains listed as endangered.

Section 4(g)(1) of the ESA requires the Service to implement a system, in cooperation with the States, to monitor effectively for not less than 5 years the status of all species which have been removed from the Federal List of Endangered and Threatened Wildlife and Plants due to recovery. The purpose of post-delisting monitoring is to verify that a species delisted due to recovery remains secure from risk of extinction after it has been removed from the protections of the ESA.

To fulfill the requirement of section 4(g)(1) of the ESA, we developed a post-delisting monitoring plan for the Douglas County DPS of the Columbian white-tailed deer in cooperation with the Oregon Department of Fish and Wildlife and the Bureau of Land Management. The monitoring plan describes the methods that are being used to monitor the status of the Douglas County DPS of the Columbian white-tailed deer and its habitat for a 5-year period, from 2003 (at the time of delisting) to 2008. The monitoring plan also provides a strategy for identifying and responding to unexpected population declines and habitat alteration, as well as disease outbreaks.

A draft of this post-delisting monitoring plan was peer reviewed by two scientific experts familiar with the biology of the Columbian white-tailed deer and was made available for public comment from November 23, 2005, through December 23, 2005 (70 FR 70876). Information submitted during the comment period has been considered in the preparation of the final post-delisting monitoring plan and is summarized in Appendix 2 of the plan.

A combined annual report for the first 3 years of post-delisting monitoring (2003, 2004, and 2005) is currently available on the World Wide Web at: http://www.fws.gov/ oregonfwo/Species/ESA-Actions/CWTDPage.asp. Annual reports will continue to be compiled by the Service, in cooperation with the Oregon Department of Fish and Wildlife and the Bureau of Land Management, until the end of the 5-year monitoring period in 2008, and will be made available at the above Internet address.

References Cited

A complete list of all references cited herein is available, upon request, from the Oregon Fish and Wildlife Office (see ADDRESSES).

Author

The primary author of this document is Cat Brown, Oregon Fish and Wildlife Office (see ADDRESSES).

Authority

The authority for this action is the Endangered Species Act of 1973 (16 U.S.C. 1531 et seq.).

Dated: July 3, 2006.
David J. Wesley,
Acting Regional Director, Region 1, U.S. Fish and Wildlife Service.

[FR Doc. E6-11922 Filed 7-25-06; 8:45 am]

BILLING CODE 4310-55-P